ENVIRONMENTAL PROTECTION AGENCY

[ER-FRL-9048-9]

Environmental Impact Statements; Notice of Availability

Weekly receipt of Environmental Impact Statements

Filed January 6, 2020 10 a.m. EST, Through January 13, 2020 10 a.m. EST

Pursuant to 40 CFR 1506.9

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200006, Final Supplement, Caltrans, CA, State Route 241/91 Tolled Express Lane Connector Project, Review Period Ends: 02/18/2020, Contact: Smita Deshpande 657-328-6151

EIS No. 20200007, Final, USACE, MS, Bayou Casotte Harbor Channel Improvement Project, Review Period Ends: 02/18/2020, Contact: Jennifer Jacobson 251-690-2724

EIS No. 20200008, Draft, USFS, NM, Gila National Forest Draft Revised Forest Plan, Comment Period Ends: 04/16/2020, Contact: Jenny Natharius 575-388-8483

Dated: January 13, 2020.
Robert Tomiak,
Director, Office of Federal Activities.

[FR Doc. 2020-00720 Filed 1-16-20; 8:45 am]

BILLING CODE 6560-50-P